GENERAL SERVICES ADMINISTRATION

[OMB Control No. 3090-0007; Docket No. 2021-0001; Sequence No. 2]

Information Collection; General Services Administration Acquisition Regulation; Contractor's Qualifications and Financial Information, GSA Form 527

AGENCY: Office of Acquisition Policy, General Services Administration (GSA).

ACTION: Notice of request for comments regarding an extension to an existing OMB clearance.

SUMMARY: Under the provisions of the Paperwork Reduction Act, the Regulatory Secretariat Division will be submitting to the Office of Management and Budget (OMB) a request to review and approve an extension of a previously approved information collection requirement regarding Contractor's Qualifications and Financial Information through GSA Form 527.

DATES: Submit comments on or before: June 15, 2021.

ADDRESSES: Submit comments regarding this burden estimate or any other aspect of this collection of information, including suggestions for reducing this burden to:

• Regulations.gov: http://www.regulations.gov.

Submit comments via the Federal eRulemaking portal searching Information Collection 3090-0007. Select the link “Comment Now” that corresponds with “Information Collection 3090-0007, Contractor's Qualifications and Financial Information, GSA Form 527”. Follow the instructions provided on the screen. Please include your name, company name (if any), and “Information Collection 3090-0007; Contractor's Qualifications and Financial Information, GSA Form 527” on your attached document. If your comment cannot be submitted using https://www.regulations.gov, call or email the points of contact in the FOR FURTHER INFORMATION CONTACT section of this document for alternate instructions.

Instructions: Please submit comments only and cite “Information Collection 3090-0007, Contractor's Qualifications and Financial Information, GSA Form 527”, in all correspondence related to this collection. Comments received generally will be posted without change to regulations.gov, including any personal and/or business confidential information provided. To confirm receipt of your comment(s), please check regulations.gov, approximately two-to-three business days after submission to verify posting.

FOR FURTHER INFORMATION CONTACT: Bryon Boyer, Procurement Analyst, Office of Governmentwide Policy, by phone at 817-850-5580 or by email at gsarpolicy@gsa.gov.

SUPPLEMENTARY INFORMATION:

A. Purpose

The General Services Administration will be requesting that OMB extend information collection 3090-0007, concerning GSA Form 527, Contractor's Qualifications and Financial Information. This form is used to determine the financial capability of prospective contractors as to whether they meet the financial responsibility standards in accordance with the Federal Acquisition Regulation (FAR) 9.103(a) and 9.104-1 and also the General Services Administration Acquisition Manual (GSAM) 509.105-1(a).

B. Annual Reporting Burden

Respondents: 1,733.

Responses per Respondent: 1.2.

Total Responses: 2,080.

Hours per Response: 1.5.

Total Burden Hours: 3,120.

C. Public Comments

Public comments are particularly invited on: Whether this collection of information is necessary and whether it will have practical utility; whether our estimate of the public burden of this collection of information is accurate and based on valid assumptions and methodology; ways to enhance the quality, utility, and clarity of the information to be collected.

Obtaining Copies of Proposals: Requesters may obtain a copy of the information collection documents from the Regulatory Secretariat Division by calling 202-501-4755 or emailing GSARegSec@gsa.gov. Please cite OMB Control No. 3090-0007; Contractor's Qualifications and Financial Information, GSA Form 527, in all correspondence.

Jeffrey A. Koses,
Senior Procurement Executive, Office of Acquisition Policy, Office of Government-wide Policy.

[FR Doc. 2021-07805 Filed 4-15-21; 8:45 am]

BILLING CODE 6820-61-P